DEPARTMENT OF ENERGY

Energy Efficiency and Renewable Energy

Biomass Research and Development Technical Advisory Committee; Meeting

AGENCY: Energy Efficiency and Renewable Energy, Department of Energy.

ACTION: Notice of open meeting; Correction.

SUMMARY: The Department of Energy (DOE), on February 17, 2015, published a notice of open meeting announcing an open meeting of the Biomass Research and Development Technical Advisory Committee. Due to member's availability, the meeting venue has been changed to a webinar and the date and time is now March 5, 2015, 1:30 p.m.-5:30 p.m. As a result, the language is being corrected in this notice.

Corrections

In the Federal Register of February 17, 2015, in FR DOC. 2015-03133, on page 8298, please make the following corrections:

In the DATES heading, third column, second and third lines, replace text with “Thursday, March 5, 2015, 1:30 p.m.-5:30 p.m. (EDT).

In the ADDRESSES heading, third column, fourth line, please remove “Marriott Wardman Park, 2660 Woodley Rd. NW., Washington, DC 20008” and replace with “Please register for the Biomass Research and Development Technical Advisory Committee meeting for March 5, 2015, 1:30 p.m. at: https://attendee.gotowebinar.com/register/6807084548871333889. After registering, you will receive a confirmation email containing information about joining the webinar.”

Issued in Washington, DC, on February 24, 2015.
LaTanya R. Butler,
Deputy Committee Management Officer.

[FR Doc. 2015-04231 Filed 2-27-15; 8:45 am]

BILLING CODE 6450-01-P